DEPARTMENT OF THE TREASURY

Internal Revenue Service

Open Meeting of the Taxpayer Advocacy Panel Taxpayer Assistance Center Project Committee

AGENCY: Internal Revenue Service (IRS), Treasury.

ACTION: Notice of meeting cancellation.

SUMMARY: Notice is hereby given of the cancellation of the open meeting of the Taxpayer Advocacy Panel Taxpayer Assistance Center Project Committee scheduled for Monday, March 23, 2020 at 1:00 p.m. and Tuesday, March 24, 2020 at 8:00 a.m. Central Time, which was originally published in the Federal Register on March 9, 2020, (Volume 85, Number 46, Page 13706).

FOR FURTHER INFORMATION CONTACT: Matthew O'Sullivan at 1-888-912-1227 or (510) 907-5274.

Dated: March 9, 2020.
Kevin Brown,
Acting Director, Taxpayer Advocacy Panel.

[FR Doc. 2020-05121 Filed 3-12-20; 8:45 am]

BILLING CODE 4830-01-P